DEPARTMENT OF THE INTERIOR

Bureau of Indian Affairs

[DR.5B711.IA000814]

Indian Gaming

AGENCY: Bureau of Indian Affairs, Interior.

ACTION: Notice of Approved Tribal-State Class III Gaming Compact.

SUMMARY: This notice publishes the approval of the Compact between the Te-Moak Tribe of Western Shoshone (Tribe) and the State of Nevada (State) Governing Class III Gaming.

DATES: Effective Date: October 23, 2014.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in Class III gaming activities on Indian lands. As required by 25 CFR 293.4, all compacts are subject to review and approval by the Secretary. The Compact allows the Tribal Gaming Commission to determine the number of casinos, mix of games, number of gaming devices, wager, and prize limits. The Compact allows the Tribe to operate “Slots Only Locations” totaling 300 slot machines, provided that no more than 65 slot machines are operated at each location. The term of the Compact is 20 years, and the term can be amended to be coterminous with a financing agreement. The Assistant Secretary—Indian Affairs, Department of the Interior, through his delegated authority, is publishing notice that the Tribal-State Compact between the State and the Tribe is now in effect.

Dated: October 17, 2014.
Kevin K. Washburn,
Assistant Secretary—Indian Affairs.

[FR Doc. 2014-25296 Filed 10-22-14; 8:45 am]

BILLING CODE 4310-4N-P